DEPARTMENT OF ENERGY

Federal Energy Regulatory Commission

Combined Notice of Filings # 1

Take notice that the Commission received the following electric corporate filings:

Docket Numbers: EC24-2-000.

Applicants: ECP ControlCo, LLC, Bridgepoint OP LP.

Description: Application for Authorization Under Section 203 of the Federal Power Act of ECP ControlCo, LLC.

Filed Date: 10/3/23.

Accession Number: 20231003-5203.

Comment Date: 5 p.m. ET 10/24/23.

Docket Numbers: EC24-3-000.

Applicants: Piedmont Green Power, LLC, Pacolet Milliken, LLC.

Description: Joint Application for Authorization under Section 203 of the Federal Power Act, Request for Privileged Treatment, and Request for Expedited Consideration of Piedmont Green Power, LLC, et al.

Filed Date: 10/4/23.

Accession Number: 20231004-5182.

Comment Date: 5 p.m. ET 10/25/23.

Docket Numbers: EC24-4-000.

Applicants: Wildwood Lessee, LLC, Holloman Lessee LLC, SE1 Generation, LLC.

Description: Application for Authorization Under Section 203 of the Federal Power Act of Wildwood Lessee, LLC, et al.

Filed Date: 10/2/23.

Accession Number: 20231002-5389.

Comment Date: 5 p.m. ET 10/23/23.

Take notice that the Commission received the following electric rate filings:

Docket Numbers: ER15-1687-004.

Applicants: Blue Cube Operations LLC.

Description: Late-Filed Updated Market Power Analyses for the Central Region of Blue Cube Operations LLC.

Filed Date: 10/5/23.

Accession Number: 20231005-5195.

Comment Date: 5 p.m. ET 10/26/23.

Docket Numbers: ER20-676-009.

Applicants: Tri-State Generation and Transmission Association, Inc.

Description: Compliance Filing of Tri-State Generation and Transmission Association, Inc. in Response to Opinion No. 582.

Filed Date: 9/29/23.

Accession Number: 20230929-5375.

Comment Date: 5 p.m. ET 10/20/23.

Docket Numbers: ER23-2982-000.

Applicants: BP Energy Company.

Description: BP Energy Company submits 2023 WECC Soft Price Cap Justification Filing.

Filed Date: 9/29/23.

Accession Number: 20230929-5376.

Comment Date: 5 p.m. ET 10/20/23.

Docket Numbers: ER24-35-000.

Applicants: Public Service Company of Colorado.

Description: Tariff Amendment: 2023-10-05 OMID E&P—GI-2020-18—662—NOC—0.1.0 to be effective 12/5/2023.

Filed Date: 10/5/23.

Accession Number: 20231005-5172.

Comment Date: 5 p.m. ET 10/26/23.

Docket Numbers: ER24-36-000.

Applicants: Wabash Valley Power Association, Inc.

Description: § 205(d) Rate Filing: Filing of New Wholesale Power Supply Contracts—Clone to be effective 12/5/2023.

Filed Date: 10/6/23.

Accession Number: 20231006-5001.

Comment Date: 5 p.m. ET 10/27/23.

Docket Numbers: ER24-38-000.

Applicants: Wabash Valley Power Association, Inc.

Description: Initial rate filing: Filing of Policy D-2 to be effective 12/5/2023.

Filed Date: 10/6/23.

Accession Number: 20231006-5002.

Comment Date: 5 p.m. ET 10/27/23.

Docket Numbers: ER24-39-000.

Applicants: Wabash Valley Power Association, Inc.

Description: Initial rate filing: Filing of Policy D-11.1 to be effective 12/5/2023.

Filed Date: 10/6/23.

Accession Number: 20231006-5003.

Comment Date: 5 p.m. ET 10/27/23.

Docket Numbers: ER24-40-000.

Applicants: PacifiCorp.

Description: Tariff Amendment: Termination of UAMPS Const Agmt Santa Clara BTM Resource Modeling to be effective 12/6/2023.

Filed Date: 10/6/23.

Accession Number: 20231006-5010.

Comment Date: 5 p.m. ET 10/27/23.

Docket Numbers: ER24-41-000.

Applicants: Pennsylvania Electric Company, PJM Interconnection, L.L.C.

Description: § 205(d) Rate Filing: Pennsylvania Electric Company submits tariff filing per 35.13(a)(2)(iii: PENELEC Amends 6 ECSAs (5279 6269 6299 6332 6487 6490) to be effective 12/31/9998.

Filed Date: 10/6/23.

Accession Number: 20231006-5043.

Comment Date: 5 p.m. ET 10/27/23.

Docket Numbers: ER24-42-000.

Applicants: Virginia Electric and Power Company, PJM Interconnection, L.L.C.

Description: § 205(d) Rate Filing: Virginia Electric and Power Company submits tariff filing per 35.13(a)(2)(iii: VEPCO submits 1 WDSA, SA NO. 7119 to be effective 9/28/2023.

Filed Date: 10/6/23.

Accession Number: 20231006-5050.

Comment Date: 5 p.m. ET 10/27/23.

Docket Numbers: ER24-43-000.

Applicants: Southern California Edison Company.

Description: Tariff Amendment: Termination of Pier S Energy Storage Letter Agreement to be effective 12/6/2023.

Filed Date: 10/6/23.

Accession Number: 20231006-5055.

Comment Date: 5 p.m. ET 10/27/23.

Docket Numbers: ER24-44-000.

Applicants: Southwest Power Pool, Inc.

Description: § 205(d) Rate Filing: Revisions to Attachment AE and AF Regarding Energy Offers Greater Than $1000/MWh to be effective 12/6/2023.

Filed Date: 10/6/23.

Accession Number: 20231006-5061.

Comment Date: 5 p.m. ET 10/27/23.

Docket Numbers: ER24-45-000.

Applicants: Blue Cube Operations LLC.

Description: Compliance filing: Blue Cube Operations LLC Change in Status filing to be effective 10/6/2023.

Filed Date: 10/6/23.

Accession Number: 20231006-5062.

Comment Date: 5 p.m. ET 10/27/23.

Docket Numbers: ER24-46-000.

Applicants: American Transmission Systems, Incorporated, PJM Interconnection, L.L.C.

Description: § 205(d) Rate Filing: American Transmission Systems, Incorporated submits tariff filing per 35.13(a)(2)(iii: ATSI submits one Engineering and Construction Agreement SA No. 6644 to be effective 12/6/2023.

Filed Date: 10/6/23.

Accession Number: 20231006-5065.

Comment Date: 5 p.m. ET 10/27/23.

Docket Numbers: ER24-47-000.

Applicants: Alabama Power Company, Georgia Power Company, Mississippi Power Company.

Description: Tariff Amendment: Alabama Power Company submits tariff filing per 35.15: Hale South Solar LGIA Termination Filing to be effective 10/6/2023.

Filed Date: 10/6/23.

Accession Number: 20231006-5066.

Comment Date: 5 p.m. ET 10/27/23.

Docket Numbers: ER24-48-000.

Applicants: Alabama Power Company, Georgia Power Company, Mississippi Power Company.

Description: § 205(d) Rate Filing: Alabama Power Company submits tariff filing per 35.13(a)(2)(iii: Griffin Road (GASNF Solar) LGIA Filing to be effective 10/2/2023.

Filed Date: 10/6/23.

Accession Number: 20231006-5067.

Comment Date: 5 p.m. ET 10/27/23.

Docket Numbers: ER24-49-000.

Applicants: Alabama Power Company, Georgia Power Company, Mississippi Power Company.

Description: § 205(d) Rate Filing: Alabama Power Company submits tariff filing per 35.13(a)(2)(iii: Baker Creek Solar LGIA Filing to be effective 9/28/2023.

Filed Date: 10/6/23.

Accession Number: 20231006-5070.

Comment Date: 5 p.m. ET 10/27/23.

Docket Numbers: ER24-50-000.

Applicants: Pacific Gas and Electric Company.

Description: Notice of Termination of Transmission Owner Service Agreement No. 56 with Dinuba Energy of Pacific Gas and Electric Company.

Filed Date: 10/3/23.

Accession Number: 20231003-5210.

Comment Date: 5 p.m. ET 10/24/23.

Docket Numbers: ER24-51-000.

Applicants: PJM Interconnection, L.L.C.

Description: § 205(d) Rate Filing: Amendment to WMPA, SA No. 5545; Queue No. AE2-125 (amend) to be effective 12/6/2023.

Filed Date: 10/6/23.

Accession Number: 20231006-5126.

Comment Date: 5 p.m. ET 10/27/23.

Docket Numbers: ER24-52-000.

Applicants: PJM Interconnection, L.L.C.

Description: Tariff Amendment: Notice of Cancellation of WMPA, SA No. 5807; Queue No. AF2-400 re: Withdrawal to be effective 12/6/2023.

Filed Date: 10/6/23.

Accession Number: 20231006-5129.

Comment Date: 5 p.m. ET 10/27/23.

Docket Numbers: ER24-53-000.

Applicants: PJM Interconnection, L.L.C.

Description: § 205(d) Rate Filing: Amendment to ISA, SA No. 6750; Queue No. AD2-033 (amend) to be effective 12/6/2023.

Filed Date: 10/6/23.

Accession Number: 20231006-5139.

Comment Date: 5 p.m. ET 10/27/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 6, 2023.
Debbie-Anne A. Reese,
Deputy Secretary.

[FR Doc. 2023-22704 Filed 10-13-23; 8:45 am]

BILLING CODE 6717-01-P